ENVIRONMENTAL PROTECTION AGENCY

[FRL-9713-5]

Final National Pollutant Discharge Elimination System (NPDES) General Permit for Discharges From the Oil and Gas Extraction Point Source Category to Coastal Waters in Texas (TXG330000)

AGENCY: Environmental Protection Agency (EPA).

ACTION: Notice of NPDES General Permit Renewal.

SUMMARY: EPA Region 6 today announces issuance of the final NPDES general permit for the Coastal Waters of Texas (No. TXG330000) for discharges from existing and new dischargers and New Sources in the Coastal and Stripper Subcategories of the Oil and Gas Extraction Point Source Category as authorized by section 402 of the Clean Water Act, (CWA). This permit renewal authorizes discharges from exploration, development, and production facilities discharging to the coastal waters of Texas. The draft permit was proposed in the Federal Register on March 30, 2012. EPA Region 6 has considered all comments received and makes few changes to the proposed permit: pH limit for formation test fluids and fecal coliform limit only for oyster water.

DATES: This permit was issued and effective on July 31, 2012 and expires July 30, 2017. This effective date is necessary to provide dischargers with the immediate opportunity to comply with Clean Water Act requirements in light of the expiration of the 2007 permit on July 6, 2012. In accordance with 40 CFR 23, this permit shall be considered issued for the purpose of judicial review on August 22, 2012. Under section 509(b) of the CWA, judicial review of this general permit can be held by filing a petition for review in the United States Court of Appeals within 120 days after the permit is considered issued for judicial review. Under section 509(b)(2) of the CWA, the requirements in this permit may not be challenged later in civil or criminal proceedings to enforce these requirements. In addition, this permit may not be challenged in other agency proceedings. Deadlines for submittal of notices of intent are provided in Part I.A.2 of the permit.

ADDRESSES: A copy of the Region's responses to comments and the final permit may be obtained from the EPA Region 6 Internet site: http://www.epa.gov/region6/water/npdes/genpermit/index.htm.

FOR FURTHER INFORMATION CONTACT: Ms. Diane Smith, Region 6, U.S. Environmental Protection Agency, 1445 Ross Avenue, Dallas, Texas 75202-2733. Telephone: (214) 665-2145.

SUPPLEMENTARY INFORMATION: The permit prohibits the discharge of drilling fluid, drill cuttings, produced sand and well treatment, completion and workover fluids. Discharges of dewatering effluents from reserve pits are also prohibited. Produced water discharges are prohibited, except from wells in the Stripper Subcategory located east of the 98th meridian whose produced water comes from the Carrizo/Wilcox, Reklaw or Bartosh formations in Texas as authorized by the previous permit. Discharges of produced waters from new stripper wells to an impaired waterbody that is impaired for dissolved oxygen are prohibited. The discharge of deck drainage, formation test fluids, sanitary waste, domestic waste and miscellaneous discharges is authorized. More stringent requirements are established to regulate discharges to water quality-impaired waterbodies. Pursuant to section 316(b) of the Clean Water Act (CWA), requirements for new facilities are also established in the final permit. Major changes also include definition of “operator”, acute toxicity test for produced water, spill prevention best management practices, and electronic reporting requirements. To obtain discharge authorization, operators of such facilities must submit a new Notice of Intent (NOI). To determine whether your facility, company, business, organization, etc. is regulated by this action, you should carefully examine the applicability criteria in Part I, Section A.1 of this permit.

Other Legal Requirements: State certification under section 401 of the CWA; consistency with the Texas Coastal Management Program; and compliance with National Environmental Policy Act, Endangered Species Act, Magnuson-Stevens Fishery Conservation and Management Act, Historic Preservation Act, Paperwork Reduction Act, and Regulatory Flexibility Act requirements are discussed in the Region's responses to comments.

Dated: July 31, 2012.
William K. Honker,
Acting Director, Water Quality Protection Division, EPA Region 6.

[FR Doc. 2012-19398 Filed 8-7-12; 8:45 am]

BILLING CODE 6560-50-P